POSTAL SERVICE

39 CFR Part 111

New Mailing Standards for Domestic Mailing Services Products

AGENCY: Postal Service™.

ACTION: Final rule.

SUMMARY: On October 6, 2023, the Postal Service (USPS®) filed a notice of mailing services price adjustments with the Postal Regulatory Commission (PRC), effective January 21, 2024. This final rule contains the revisions to Mailing Standards of the United States Postal Service, Domestic Mail Manual (DMM®) to implement the changes coincident with the price adjustments and other minor DMM changes.

DATES: Effective January 21, 2024.

FOR FURTHER INFORMATION CONTACT: Doriane Harley at (202) 268-2537 or Dale Kennedy at (202) 268-6592.

SUPPLEMENTARY INFORMATION: On November 22, 2023, the PRC favorably reviewed the price adjustments proposed by the Postal Service. The price adjustments and DMM revisions are scheduled to become effective on January 21, 2024. Final prices are available under Docket No. R2024-1 (Order No. 6814) on the Postal Regulatory Commission's website at www.prc.gov.

Certificate of Mailing—Automated Solution

Currently, Certificate of Mailing is processed manually at the BMEU for individual pieces of Priority Mail®, First-Class Mail®, USPS Marketing Mail®, and Package Services. Certificate of Mailing provides evidence of mailing only and does not provide a record of delivery.

The Postal Service is adding an automated option for processing forms 3606-D Certificate of Bulk Mailing; 3665 Certificate of Mailing; and 3877 Firm Mailing Book for Accountable Mail at the BMEU when electronically uploaded to PostalOne! and payment via EPS (Enterprise Payment System).

Promotion Eligible Product Identification

Currently, mailers are unable to see the discount breakdown at product level for each promotion; in addition, when a new promotion is added or an existing promotion is enhanced, changes applied to the product line is not readily available to mailers.

The Postal Service will implement an update that will enable mailers to see promotion discounts at the product level for each promotion as well as ensure all updates are applied to applicable systems in sync.

These revisions will provide consistency within postal products and add value for customers.

Market Dominant comments on Proposed changes and USPS responses.

The Postal Service did not receive any formal comments on the October 2023 proposed rule (88 FR 71329-71332).

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

203 Basic Postage Statement, Documentation, and Preparation Standards

* * * * *

3.0 Standardized Documentation for First-Class Mail, Periodicals, USPS Marketing Mail, and Flat-Size Bound Printed Matter

* * * * *

3.2 Format and Content

For First-Class Mail, Periodicals, USPS Marketing Mail, and Bound Printed Matter, standardized documentation includes:

* * * * *

c. For mail in trays or sacks, list these required elements:

* * * * *

[Revise item 203.3.2c(6) to read as follows:]

6. For all Periodicals mailings, include a separate “Entry” column showing the applicable destination entry discount for those copies using the entry abbreviations in 3.6.3.

* * * * *

d. For bundles on pallets, list these required elements:

* * * * *

[Revise item 203.3.2d(6) to read as follows:]

6. For all Periodicals mailings, include a separate “Entry” column showing the entry discount for those copies using the abbreviations in 207.17.4.3. Report foreign copies separately.

* * * * *

[Revise the first sentence of the introductory text of 203.3.2(e) to read as follows:]

e. At the end of the documentation, a summary report of the number of pieces mailed at each price for each mailing by postage payment method and the number of pieces in each mailing.* * *

* * * * *

[Revise the first sentence of item 203.3.2e(4) to read as follows:]

4. A summary of the number of copies for each entry price.* * *

* * * * *

[Revise the heading of 3.6 to read as follows:]

3.6 Detailed Entry Listing for Periodicals

3.6.1 Definition and Retention

[Revise the text of 3.6.1 to read as follows:]

The publisher must be able to present documentation to support the number of copies of each edition of an issue mailed by entry point at In-County and Outside-County prices. This listing is separate from the standardized documentation required to support presort and may be submitted with each mailing, or a publisher may keep these records for 2 months after the mailing date. A publisher must be able to submit detailed entry listings for specific mailings upon request by the USPS.

3.6.2 Characteristics

Report the number of copies mailed to each 3-digit ZIP Code area using either one of the following formats:

[Revise the text of 203.3.6.2(a) and (b) to read as follows:]

a. Report copies by each 3-digit ZIP Code in ascending numeric order. Include columns for: 3-digit ZIP Code, entry, and number of copies per entry. Include a summary of the number of copies at each entry price at the end of the report. A 3-digit ZIP Code may appear more than once if there are copies at different entry prices (e.g., In-County and Outside-County copies) for that 3-digit ZIP Code.

b. Report copies by each entry and by 3-digit ZIP Code in ascending numeric order. For each entry, include columns for: 3-digit ZIP Code and number of copies. Include a summary of the total number of copies for each entry at the end of each entry listing. A 3-digit ZIP Code may appear under more than one entry if there are copies at different entry prices for that 3-digit ZIP Code.

[Revise the heading of 3.6.3 to read as follows:]

3.6.3 Entry Abbreviations

[Revise the text of 3.6.3 to read as follows:]

Use the actual price name or the authorized entry abbreviation in the listings in 3.0 and 207.17.4.2:

Entry abbreviation | Price equivalent
ICD | In-County, DDU.
IC | In-County, All Others.
DDU | Outside-County, DDU.
SCF | Outside-County, DSCF.
ADC | Outside-County, DADC.
OC | Outside-County, All Others.

* * * * *

207 Periodicals

* * * * *

2.0 Price Application and Computation

2.1 Price Application

* * * * *

2.1.4 Applying Pound Price

Apply pound prices to the weight of the pieces in the mailing as follows:

[Revise items a and b to read as follows:]

a. Outside-County (including Science-of-Agriculture) pound prices are based on the weight of the advertising portion sent to each destination entry and the weight of the nonadvertising portion to a destination entry.

b. In-County pound prices consist of a DDU entry price and a Non-DDU entry price for eligible copies delivered to addresses within the county of publication.

* * * * *

2.1.5 Computing Weight of Advertising and Nonadvertising Portions

[Revise the text of 2.1.5 to read as follows:]

The pound price charge is the sum of the charges for the computed weight of the advertising portion of copies to each destination entry, plus the sum of the charges for the computed weight of the nonadvertising portion of copies to each destination entry. The following standards apply:

a. The minimum pound price charge for any entry level to which copies are mailed is the 1-pound price. For example, three 2-ounce copies for an entry are subject to the minimum 1-pound charge.

b. Authorized Nonprofit and Classroom publications with an advertising percentage that is 10% or less are considered 100% nonadvertising. When computing the pound prices and the nonadvertising adjustment, use “0” as the advertising percentage. Authorized Nonprofit and Classroom publications claiming 0% advertising must pay the nonadvertising pound price for the entire weight of all copies.

* * * * *

2.2 Computing Postage

* * * * *

2.2.3 Computing Other Weights

[Revise the text of 2.2.3 to read as follows:]

To find the total weight of mailed copies per entry level, multiply the corresponding number of copies by the computed weight per copy. Round off each result to the nearest whole pound, except that when the result is under 0.5 pound, round to 1 pound. To find the weight of the advertising portion for each entry, where applicable, multiply the total weight of copies for that entry by the percentage of advertising. Round off each result to the nearest whole pound, except that when the result is under 0.5 pound, round to 1 pound. To find the weight of the nonadvertising portion, subtract the total weight of the advertising portion to all entry levels from the total weight of copies to all entry levels. To find the weight of In-County price copies, multiply the number of copies by the weight per copy and round off the total weight to the nearest whole pound, except that when the result is less than 0.5 pound, round to 1 pound.

* * * * *

5.0 Applying for Periodicals Authorization

* * * * *

5.2 Mailing While Application Pending

* * * * *

[Revise the heading of 5.2.2 to read as follows:]

5.2.2 Pending Periodicals Prices

* * * * *

[Revise the heading of 5.2.3 to read as follows:]

5.2.3 Pending Periodicals Postage

* * * * *

[Revise the heading of Exhibit 5.2.3 to read as follows:]

Exhibit 5.2.3 Pending Periodicals Postage

* * * * *

8.0 Record Keeping Standards for Publishers

8.1 Basic Standards

* * * * *

8.1.2 Information Required

Records must be available so that the USPS can determine: * * *

[Delete item c and renumber items (d and e) as (c and d)]

* * * * *

8.2 Verification

8.2.1 Purpose

[Revise the text of 8.2.1 to read as follows]

A publisher must make records available for USPS review and verification on a periodic basis to evaluate indications of ineligibility for Periodicals entry, to verify that the postage statement shows the correct number of copies mailed and the correct postage, and to confirm that publications authorized to carry general advertising meet the applicable circulation standards.

* * * * *

11.0 Basic Eligibility

11.1 Outside-County Prices

11.1.1 General

[Revise the text of 11.1.1 to read as follows:]

Outside-County prices apply to copies of an authorized Periodicals publication mailed by a publisher or news agent that are not eligible for In-County prices under 11.3. Outside-County prices consist of an addressed per piece charge, an entry level charge for the weight of the advertising portion of the publication, an entry level charge for the weight of the nonadvertising portion, and a bundle and container charge.

* * * * *

17.0 Documentation

* * * * *

17.2 Additional Standards for Postage Statements

* * * * *

17.2.3 Waiving Nonadvertising Prices

[Revise the first sentence of 17.2.3 to read as follows:]

Instead of marking a copy of each issue to show the advertising portion, the publisher may pay postage at the advertising prices on both portions of all issues or editions of a Periodicals publication (except a requester publication).* * *

* * * * *

[Revise 17.2.7 to read as follows:]

17.2.7 News Agent's Statement

A news agent presenting Periodicals matter subject to “All Other” prices must provide a statement showing the percentages of such matter devoted to advertising and nonadvertising.

* * * * *

[Revise the heading of 17.4 to read as follows:]

17.4 Detailed Entry Listing for Periodicals

17.4.1 Basic Standards

[Revise the text of 17.4.1 to read as follows:]

The publisher must be able to present documentation to support the actual number of copies of each edition of an issue, by entry level, at DDU, DSCF, DADC, All Others, and In-County prices. This listing is separated from the standardized presort documentation required under 17.3. This listing may be submitted with each mailing, or a publisher may keep such records for each mailing for 2 months after the mailing date. A publisher must be able to submit detailed entry listings for specific mailings when requested by the USPS.

17.4.2 Format

[Revise the text of 17.4.2 to read as follows:]

Report the number of copies mailed to each 3-digit ZIP Code area at entry prices using one of the following formats:

a. Report copies by 3-digit ZIP Code, in ascending numeric order, for all ZIP Codes in the mailing. The listing must include these columns: 3-digit ZIP Code, entry level, and number of copies. Include a summary of the number of copies at each entry price at the end of the report. A 3-digit ZIP Code may appear more than once if there are copies at different entry prices for that ZIP Code (for example, In-County and Outside-County copies).

b. Report copies by zone (In-County DDU, In-County others, Outside-County DDU, Outside-County DSCF, Outside-County DADC and Outside-County All Others) and by 3-digit ZIP Code, in ascending numeric order, for each entry level. For each entry level, the listing must include these columns: 3-digit ZIP Code and number of copies in the mailing. Include a summary of the total number of copies for each entry level at the end of each entry listing. A 3-digit ZIP Code may appear under more than one entry level if there are copies at different entry prices for that ZIP Code.

[Revise the heading of 17.4.3 to read as follows:]

17.4.3 Entry Abbreviations

[Revise the text of 17.4.3 to read as follows:]

Use the actual price name or the authorized entry abbreviation in the listings in 17.3 and 17.4.2.

Entry abbreviation | Price equivalent
ICD | In-County, DDU.
IC | In-County, All Others.
DDU | Outside-County, DDU.
SCF | Outside-County, DSCF.
ADC | Outside-County, DADC.
OC | Outside-County, All Others.

* * * * *

26.0 Physical Criteria for Nonmachinable Flat-Size Periodicals

* * * * *

26.2 Weight and Size

[Revise to first sentence of 26.2 to read as follows:]

The maximum weight is 4.4 pounds for pieces prepared in 5-digit bundles only.* * *

* * * * *

28.0 Enter and Deposit

* * * * *

28.3 Exceptional Dispatch

* * * * *

28.3.2 Intended Use

[Revise the first sentence of 28.3.2 to read as follows:]

The provision for exceptional dispatch is intended for local distribution (In-County and DDU) of publications with total circulation of no more than 25,000 and is not to be used to circumvent additional entry standards.* * *

* * * * *

500 Additional Mailing Services

503 Extra Services

* * * * *

1.0 Basic Standards for All Extra Services

* * * * *

1.10 Receipts

[Add a sentence after the fourth sentence to read as follows:]

* * * When used for commercial mailings, Form 3877 (firm sheet) may be submitted electronically to PostalOne! and processed at the BMEU.* * *

* * * * *

5.0 Certificates of Mailing

5.1 Basic Standards

5.1.1 Description—Individual Pieces

[Add a sentence at the end of 5.1.1 to read as follows:]

* * * Form 3665 (firm sheet) may be submitted electronically to PostalOne! and processed at the BMEU.

5.1.2 Paying Fees

[Add a sentence at the end of 5.1.2 to read as follows:]

* * * When electronically submitted, postage for Form 3665-Firm must be paid with an EPS (Electronic Payment System) account.

* * * * *

5.1.6 Acceptance

[Revise the last sentence of 5.1.6 to read as follows:]

* * * Certificate of Mailing Form 3665 (including USPS-approved privately printed versions and electronic Form 3665) with mailings of at least 50 pieces or 50 pounds of corresponding articles presented at one time must be presented to a Post Office business mail entry unit (BMEU) or authorized detached mail unit (DMU).

* * * * *

5.2 Other Bulk Quantities—Certificate of Bulk Mailing

5.2.1 Description

[Add text at the end of 5.2.1 to read as follows:]

* * * Mailers must upload the electronic Form 3606-D prior to presenting the mailing at the BMEU for processing. Each electronic Form 3606-D will receive a watermark date stamped receipt after finalization of the mailing.

5.2.2 Paying Fees

[Add a sentence at the end of 5.2.2 to read as follows:]

* * * Mailers submitting electronic Form 3606-D must pay certificate of mailing fees, at the time of mailing, using an EPS account.

5.2.3 Acceptance

[Revise the last sentence of 5.2.3 to read as follows:]

* * * Certificate of Bulk Mailing Form 3606-D (including USPS-approved facsimiles and electronic Form 3606-D) with identical-weight mailings of at least 50 pieces or 50 pounds must be presented to a business mail entry unit (BMEU) or authorized detached mail unit (DMU).

* * * * *

700 Special Standards

* * * * *

705 Advanced Preparation and Special Postage Payment Systems

* * * * *

15.0 Combining USPS Marketing Mail Flats, Bound Printed Matter Flats, and Periodicals Flats

15.1 Basic Standards

* * * * *

15.1.3 Documentation

Mailers must present standardized electronic documentation according to 203.3.0. This documentation must accurately reflect the final piece count in the combined mailing. In addition, mailers must provide:

* * * * *

[Revise item (e) to read as follows:]

e. Documentation to support entry and bundle totals, if requested.

* * * * *

Notice 123 (Price List)

[Revise prices as applicable.]

* * * * *

Sarah Sullivan,
Attorney, Ethics and Legal Compliance.

[FR Doc. 2023-26923 Filed 12-7-23; 8:45 am]

BILLING CODE 7710-12-P